DEPARTMENT OF AGRICULTURE

Food and Nutrition Service

Agency Information Collection Activities: Proposed Collection; Comment Request—Supplemental Nutrition Assistance Program Education (SNAP-Ed) Toolkit Intervention Submission Form and Scoring Tool

AGENCY: Food and Nutrition Service (FNS), USDA.

ACTION: Notice.

SUMMARY: In accordance with the Paperwork Reduction Act of 1995, the Food and Nutrition Service (FNS) is publishing for public comment a summary of a proposed information collection. This is a revision of a currently approved collection.

DATES: Written comments must be received on or before June 28, 2021.

ADDRESSES: Comments may be sent to: Adron Mason, Food and Nutrition Service, U.S. Department of Agriculture, Supplemental Nutrition Assistance Program, 1320 Braddock Place, 5th Floor, Alexandria, VA 22314. Comments may also be submitted via fax to the attention of Adron Mason at 703-305-0429 or via email to SNAP-ed@usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Adron Mason at SNAP-Ed@usda.gov.

SUPPLEMENTARY INFORMATION: The purpose of the SNAP-Ed Toolkit Intervention Submission Form and Scoring Tool are to provide a uniform and transparent method for submission, review, and scoring of nutrition education, physical activity promotion, and obesity prevention interventions into the SNAP-Ed Strategies and Interventions: An Obesity Prevention Toolkit for States (Toolkit). The Toolkit was developed to assist State agencies in locating evidence-based interventions for their implementation of SNAP-Ed programming. The Food and Nutrition Act of 2008, as amended (The Act) requires that States use evidence-based interventions. These forms allow FNS to increase the selection of interventions available in the Toolkit, increase innovation in service delivery using interventions which reflect up-to-date research, and respond to intervention developer requests to be included in the Toolkit. FNS plans to update form FNS-885 by rephrasing, modifying, or combining certain criteria where doing so will improve user experience, as well as by including updated scoring criteria that reflect the current body of interventions in the SNAP-Ed Toolkit. FNS plans to update form FNS-886 by combining, removing, and resequencing questions based on user feedback to improve user experience and reduce burden. FNS also plans to encourage high quality submissions by inserting more explicit prompts to include supplementary documentation, adding more check-box lists for submitters to use to identify the strategies they employed, increasing character limits on short-answer questions, and inserting a question on evaluation tools used by the submitter. In sum, the changes in this proposed revision are intended to streamline the forms and improve the end user experience.

Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: SNAP-Ed Toolkit Submission Form and Scoring Tool.

Form Number: FNS-885, FNS-886.

OMB Number: 0584-0639.

Expiration Date: 6/30/2021.

Type of Request: Revision of a currently approved collection.

Abstract: SNAP-Ed State and Implementing agencies are able to identify and choose evidence-based interventions using the Toolkit. The Toolkit was developed collaboratively by FNS National and Regional Office SNAP-Ed staff, the National Collaborative on Childhood Obesity Reduction (NCCOR), and the Association of SNAP Nutrition Education Administrators (ASNNA). Currently, more than 150 interventions are available in the Toolkit (https://snapedtoolkit.org/). This data collection for additional interventions to be reviewed for inclusion in the Toolkit is necessary for the following reasons:

• Increase the selection available to agencies to allow them to find interventions that fit their specific needs.

• Increase innovation in service delivery by encouraging adoption of interventions which reflect the most up-to-date research of nutrition education, physical activity, and obesity prevention behavior change.

• Allow FNS to respond to requests by intervention developers to be included in the Toolkit with a clear and transparent review process and criteria for inclusion.

The Food and Nutrition Act of 2008, as amended (The Act) § 28(c)(3)(A) states that State agencies “may use funds provided under this section for any evidence-based allowable use of funds” including “(i) individual and group-based nutrition education, health promotion, and intervention strategies”. 7 CFR 272.2(2)(d) also states “SNAP-Ed activities must include evidence-based activities using one or more of these approaches: Individual or group-based nutrition education, health promotion, and intervention strategies; comprehensive, multi-level interventions at multiple complementary organizational and institutional levels; community and public health approaches to improve nutrition”. The Intervention Submission Form and Scoring Tool allows for interventions to be assessed to determine if they are both evidence-based and use one of the approaches described.

The Intervention Submission Form is be used by intervention developers (submitters) to provide information about the intervention they are submitting for inclusion in the Toolkit. Information requested includes intervention materials, how they have been and will be used, and the evidence base which illustrates their effectiveness. Information is collected through a combination of multiple-choice boxes and text response areas.

Submitters are members of State or Implementing agencies, researchers from academic institutions and Federal agencies, such as the Economic Research Service (ERS), and non-profit or private sector nutrition education and physical activity intervention developers.

Submitters are able to download, complete and submit the form at any time, although there is an annual deadline for submission for the associated year's review. Download and submission will be through the SNAP-Ed Connection website (https://snaped.fns.usda.gov/). Completion is voluntary.

Submission Forms and attachments are collected by FNS National Office SNAP-Ed staff and distributed to intervention reviewers (reviewers), who use the Scoring Tool to help them determine if the intervention should be included in the Toolkit. The Scoring Tool rates the intervention according to the quality of materials, usefulness for SNAP-Ed, and effectiveness as demonstrated by the evidence base provided. Reviewers are directly emailed the Intervention Scoring Tool. Numerical scores are entered by reviewers as well as qualitative responses which clarify why an intervention was or was not included in the Toolkit. Information is collected through a combination of numerical and text entry fields.

Reviewers are FNS National and Regional Office SNAP-Ed staff, nutrition program staff from other Federal agencies, such as Centers for Disease Control and Prevention (CDC), researchers from academic institutions, and SNAP-Ed State and Implementing agency staff.

The review period occurs annually, with reviewers completing the Scoring Tool and discussing inclusion in the Toolkit. Participation as a reviewer is voluntary, with completion of the Scoring Tool a mandatory component of review participation.

As this collection is nearing its expiration date, FNS it using the Revision process to implement a number of improvements aimed primarily at improving the user experience. For the FNS-885, these changes are anticipated to include:

• In Section I, the addition of one scoring factor prompt and the modification of another to encourage reviewers to reflect on aspects of equity.

• In Section II, the removal of two scoring factor prompts to reduce burden and the modification or insertion of eight existing or new prompts for clarity and to give reviewers the opportunity to reflect more fully on the effectiveness of the submitted intervention.

• In Section III, the removal of one question to reduce burden, and minor edits throughout to streamline and improve readability.

• In Section IV, the removal of one question to reduce burden, the modification of one prompt to explicitly reference intervention cost, and minor edits for readability.

• In Section V, the removal of a scoring factor not requested in FNS-886 (Submission Form), the inclusion of cost as a factor in keeping with Section IV, and the removal of a reviewer comments section to reduce burden.

• In the Bonus Questions, an updated list of underrepresented settings, reflecting the current body of SNAP-Ed Toolkit resources, for which interventions can be awarded bonus points, and the insertion of a new question to allow reviewers to reflect on the quality of materials submitted throughout the review process.

For the FNS-886, the following updates are projected:

• In Section I, the replacement of a fill-in-the blank space with “Yes or No”, and an additional sentence encouraging submitters to reference the materials they attach in the appendices.

• In Section II, new questions containing prompts for the submitter to list the approaches used in their intervention, and definitions to accompany a question requiring submitters to identify their intervention from a series of approaches listed in checkboxes.

• In Section III, a renumbering of questions due to the insertion of new questions in Section II.

• In Section IV, a new question asking submitters to identify tools they used to evaluate their intervention, a simplified question on which outcomes the intervention achieved, and an increased character limit on a question on evidence findings included in the submission. This section also includes minor updates for readability, and renumbering to reflect the newly inserted questions.

• In Section V, renumbering to reflect newly inserted questions.

• In Section VI, a clarification of what training is required to implement the intervention, as well as renumbering to reflect newly inserted questions.

• In Section VII, new instructions clarifying that submitters should describe how evaluation and modification addressed intervention sustainability concerns, and renumbering to reflect newly inserted questions.

• In Section VIII, additional instructions to help developers name and reference their attachments throughout the submission form.

• In Section IX, additional instructions to help developers name and reference their attachments throughout the submission form.

These updates were made based on FNS' own findings and feedback from users since the forms' introduction in 2018. FNS has refined and streamlined where real-world use has indicated this is possible, and included additional instructions, questions, or opportunities for response where users, trainers, and FNS partners indicated areas for improvement. FNS has also made small wording changes to fix typos and improve readability. Overall, the changes to the form are focused on quality-of-life improvements and burden reductions for the end user. In small-scale pilot testing, users completed the revised FNS-885 approximately one hour sooner and the revised FNS-886 approximately took one hour longer. As indicated in the table below, these proposed revisions reduce Annual Burden on the public from 668 hours to 523 hours.

Affected Public: SNAP-Ed State and Implementing agencies, such as extension universities, non-profit organizations, and local program operators. Intervention developers may be members of these organizations, academic institutions not associated with SNAP-Ed, non-profit organizations, and private organizations who voluntarily complete the Intervention Submission Form. Members of FNS SNAP-Ed staff, NCCOR and ASNNA members can voluntarily review interventions using the Intervention Scoring Tool.

Estimated Number of Respondents: We estimate 127 respondents.

Estimated Number of Responses per Respondent: 1 (Intervention Submission form), 2 (Intervention Scoring Tool).

Estimated Total Annual Responses: 160.

Estimated Time per Response: 120 Minutes (Intervention Submission Form), 360 Minutes (Intervention Scoring Tool).

Estimated Total Annual Burden on Respondents: 31,380 minutes (523 hours). See the table below for estimated total annual burden for each type of respondent.

Respondent category | Type of respondents | Instruments | Form | Number of respondents | Frequency of response | Total annual responses | Hours per response | Annual burden (hours)
State/Local/Tribal Government | SNAP-Ed State and Implementing Agency Dietitians & Nutritionists | Intervention Submission Form | FNS-886 | 39 | 1 | 39 | 6 | 234.0
|  | Scoring Tool | FNS-885 | 22 | 2 | 44 | 2 | 88.0
|  | Scoring Tool (Training) | FNS-885 | 22 | 1 | 22 | 1 | 22.0
Subtotal: State/Local/Tribal Government |  |  |  | 83 | 1.2651 | 105 | 3.2762 | 344.0
Business, Non-Profit | Biological Sciences Teachers, Postsecondary | Intervention Submission Form | FNS-886 | 15 | 1 | 15 | 6 | 90.0
|  | Intervention Submission Form (Pretesting) | FNS-886 | 2 | 1 | 2 | 6 | 12.0
|  | Scoring Tool | FNS-885 | 7 | 2 | 14 | 2 | 28.0
|  | Scoring Tool (Pretesting) | FNS-885 | 2 | 1 | 2 | 2 | 4.0
|  | Scoring Tool (Training) | FNS-885 | 7 | 1 | 7 | 1 | 7.0
Subtotal: Business, Non-Profit |  |  |  | 33 | 1.2121 | 40 | 3.5250 | 141.0
Business, Profit | Dietitians and Nutritionists | Intervention Submission Form | FNS-886 | 3 | 1 | 3 | 6 | 18.0
|  | Scoring Tool | FNS-885 | 4 | 2 | 8 | 2 | 16.0
|  | Scoring Tool (Training) | FNS-885 | 4 | 1 | 4 | 1 | 4.0
Subtotal: Business, Profit |  |  |  | 11 | 1.3636 | 15 | 2.5333 | 38.0
Total |  |  |  | 127 | 1.2598 | 160 | 3.2688 | 523.0

Cynthia Long,
Acting Administrator, Food and Nutrition Service.

[FR Doc. 2021-08707 Filed 4-26-21; 8:45 am]

BILLING CODE 3410-30-P